DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans, that are final within the meaning of 23 U.S.C. 139(l)(1). The actions relate to an Off the Highway System Project, CV Link, a multi-modal project for use by bicycles, pedestrians and low speed electric vehicles, from the City of Palm Springs to the City of Coachella in Riverside County, State of California. Those actions grant approvals for the project.

DATES: By this notice, the FHWA, on behalf of Caltrans, is advising the public of final agency actions subject to 23 U.S.C. 139(l)(1). A claim seeking judicial review of the Federal agency actions on the Off the Highway System Project will be barred unless the claim is filed on or before January 11, 2019. If the Federal law that authorizes judicial review of a claim provides a time period of less than 150 days for filing such claim, then that shorter time period still applies.

FOR FURTHER INFORMATION CONTACT: For Caltrans: Aaron Burton, Senior Environmental Planner, Local Assistance-Environmental Support, California Department of Transportation District 8, 464 West Fourth Street, 6th Floor, MS 760, San Bernardino, CA 92401 during regular office hours from 8:00 a.m. to 5:00 p.m., Telephone number: (909) 383-2841, email: aaron.burton@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following Off the Highway System Project in the State of California: CV Link Multi-Modal Path Project. CV Link proposes to construct a 49± mile multi-modal transportation path for use by bicycles, pedestrians and low speed electric vehicles. The project is located in the Coachella Valley and extends across eight (8) municipalities, unincorporated county lands, and reservation land of three (3) Native American Tribes. The purpose of the project is to address a lack of integrated multi-modal access throughout the valley and enhance the active transportation network from the City of Palm Springs to the City of Coachella. CV Link largely is to be built atop the embankments and levees of the region's principal watercourses, including Whitewater Floodplain, Tahquitz Creek, Chino Creek, and the Whitewater and Coachella Valley Stormwater Channels. Grade-separated crossings (bridges or under-crossings) of major roadways are also proposed. In areas where these major drainage corridors are inaccessible, on-street routes are proposed. Route alignments using the street network are considered in challenging areas and will provide options for near and long-term implementation.

The project is intended to enhance connectivity between major employment, residential, recreational, and institutional centers throughout the valley, while promoting the use of alternative modes of transportation. The project will have important impacts on the Coachella Valley region, including increased tourism, increased business and residential values within ½ mile, gasoline savings, construction projects, and reduced medical costs from reduced obesity and other health issues.

The actions by the Federal agencies, and the laws under which such actions were taken, are described in the Environmental Assessment (EA) for the project, approved on December 21, 2017 and the Finding of No Significant Impact (FONSI) issued on July 26, 2018 and in other documents in the Caltrans' project records. The EA, FONSI and other project records are available by contacting Caltrans at the address provided above. The Caltrans EA and FONSI can be viewed and downloaded from the project website at http://www.cvag.org/.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Clean Air Act [42 U.S.C. 7401-7671(q)].

3. Section 4(f) of the U.S. Department of Transportation Act of 1966 [49 U.S.C. 303].

4. Endangered Species Act [16 U.S.C. 1531-1544 and Section 1536], Fish and Wildlife Coordination Act [16 U.S.C. 661-667(d)], Migratory Bird Treaty Act [16 U.S.C. 703- 712].

5. Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Clean Water Act 33 U.S.C. 1251-1387.

7. Farmland Protection Policy Act [7 U.S.C. 4201-4209 and its regulations].

8. E.O. 11990 Protection of Wetlands; E.O. 11988 Floodplain Management; E.O. 12898, Federal Actions to Address Environmental Justice in Minority Populations and Low-Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, Sacramento, California.

[FR Doc. 2018-17509 Filed 8-13-18; 8:45 am]

BILLING CODE 4910-RY-P